DEPARTMENT OF THE INTERIOR

National Park Service

[NPS-WASO-NAGPRA-NPS0036383; PPWOCRADN0-PCU00RP14.R50000]

Notice of Inventory Completion: Mercyhurst University, Erie, PA

AGENCY: National Park Service, Interior.

ACTION: Notice.

SUMMARY: In accordance with the Native American Graves Protection and Repatriation Act (NAGPRA), Mercyhurst University has completed an inventory of human remains and associated funerary objects and has determined that there is a cultural affiliation between the human remains and associated funerary objects and Indian Tribes or Native Hawaiian organizations in this notice. The human remains and associated funerary objects were removed from Crawford, Fayette, and Mercer Counties, PA.

DATES: Repatriation of the human remains and associated funerary objects in this notice may occur on or after September 18, 2023.

ADDRESSES: Anne Marjenin, Mercyhurst University, 501 E 38th Street, Erie, PA 16546, telephone (814) 824-2012, email nagpra@mercyhurst.edu.

SUPPLEMENTARY INFORMATION: This notice is published as part of the National Park Service's administrative responsibilities under NAGPRA. The determinations in this notice are the sole responsibility of Mercyhurst University. The National Park Service is not responsible for the determinations in this notice. Additional information on the determinations in this notice, including the results of consultation, can be found in the inventory or related records held by Mercyhurst University.

Description

Human remains representing, at minimum, one individual were removed from the Conneaut Ossuary in Crawford County, PA. These human remains (PA-CW-TIN-0001) were removed on an unknown date by an unknown person. No known individual was identified. The one associated funerary object is a lot of faunal elements.

Human remains representing, at minimum, two individuals were removed from Campbell Farm (36Fa26) in Fayette County, PA. These human remains (36FA26-TIN-0001; 36FA26-TIN-0002; 36FA26-TIN-0003) were removed on an unknown date by an unknown person. No known individuals were identified. No associated funerary objects are present.

Human remains representing, at minimum, one individual were removed from Custaloga Town (36Me57), located on the 19th century Heydrick Farm near Carlton, in Mercer County, PA. These human remains (PA-ME-TIN-0001) were removed from Native American burials by Harry Schoff and several field assistants in the spring of 1938, during archeological testing conducted in association with the western Pennsylvania Frontier Forts and Trails Survey and with supporting funds from the Works Progress Administration. No known individual was identified. The two associated funerary objects are one lot of metal (PA-ME-AFO-0001) and one lot of white and (possibly) black beads (PA-ME-AFO-0002).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and other authoritative information.

Determinations

Pursuant to NAGPRA and its implementing regulations, and after consultation with the appropriate Indian Tribes and Native Hawaiian organizations, Mercyhurst University has determined that:

• The human remains described in this notice represent the physical remains of four individuals of Native American ancestry.

• The three objects described in this notice are reasonably believed to have been placed with or near individual human remains at the time of death or later as part of the death rite or ceremony.

• There is a relationship of shared group identity that can be reasonably traced between the human remains and associated funerary objects described in this notice and the Seneca Nation of Indians; Seneca-Cayuga Nation; and the Tonawanda Band of Seneca.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 18, 2023. If competing requests for repatriation are received, Mercyhurst University must determine the most appropriate requestor prior to repatriation. Requests for joint repatriation of the human remains and associated funerary objects are considered a single request and not competing requests. Mercyhurst University is responsible for sending a copy of this notice to the Indian Tribes identified in this notice.

Authority: Native American Graves Protection and Repatriation Act, 25 U.S.C. 3003, and the implementing regulations, 43 CFR 10.9, § 10.10, and § 10.14.

Dated: August 9, 2023.
Melanie O'Brien,
Manager, National NAGPRA Program.

[FR Doc. 2023-17781 Filed 8-17-23; 8:45 am]

BILLING CODE 4312-52-P